DEPARTMENT OF ENERGY

Federal Energy Regulatory Commission

Combined Notice of Filings

Take notice that the Commission has received the following Natural Gas Pipeline Rate and Refund Report filings:

Filings Instituting Proceedings

Docket Numbers: PR26-22-000.

Applicants: Ameren Illinois Company.

Description: § 284.123(g) Rate Filing: Revised Statement of Operating Conditions to be effective 1/22/2026.

Filed Date: 12/23/25.

Accession Number: 20251223-5195.

Comment Date: 5 p.m. ET 1/13/26.

§ 284.123(g) Protest: 5 p.m. ET 2/23/26.

Docket Numbers: RP26-309-000.

Applicants: El Paso Natural Gas Company, L.L.C.

Description: § 4(d) Rate Filing: Negotiated Rate Agreement Update (EcoEnergy #612617 Jan 26) to be effective 1/1/2026.

Filed Date: 12/19/25.

Accession Number: 20251219-5500.

Comment Date: 5 p.m. ET 12/31/25.

Docket Numbers: RP26-310-000.

Applicants: El Paso Natural Gas Company, L.L.C.

Description: § 4(d) Rate Filing: Negotiated Rate Agreement Update (Shell Feb-Apr 2026) to be effective 2/1/2026.

Filed Date: 12/19/25.

Accession Number: 20251219-5505.

Comment Date: 5 p.m. ET 12/31/25.

Docket Numbers: RP26-311-000.

Applicants: INR Ohio, LLC, Antero Resources Corporation.

Description: Joint Petition for Limited Waiver of Capacity Release Regulations, et al. of INR Ohio, LLC, et al.

Filed Date: 12/19/25.

Accession Number: 20251219-5585.

Comment Date: 5 p.m. ET 12/31/25.

Docket Numbers: RP26-312-000.

Applicants: Rockies Express Pipeline LLC.

Description: § 4(d) Rate Filing: REX 2025-12-22 Negotiated Rate Agreement to be effective 1/1/2026.

Filed Date: 12/22/25.

Accession Number: 20251222-5203.

Comment Date: 5 p.m. ET 1/5/26.

Docket Numbers: RP26-313-000.

Applicants: Millennium Pipeline Company, LLC.

Description: § 4(d) Rate Filing: Negotiated Rate Agreement No. 334463—Citadel to be effective 1/1/2026.

Filed Date: 12/23/25.

Accession Number: 20251223-5087.

Comment Date: 5 p.m. ET 1/5/26.

Docket Numbers: RP26-314-000.

Applicants: Tennessee Gas Pipeline Company, L.L.C.

Description: § 4(d) Rate Filing: Negotiated Rate Agreement—Vitol Inc. to be effective 1/1/2026.

Filed Date: 12/23/25.

Accession Number: 20251223-5115.

Comment Date: 5 p.m. ET 1/5/26.

Docket Numbers: RP26-315-000.

Applicants: Transwestern Pipeline Company, LLC.

Description: § 4(d) Rate Filing: Negotiated Rate Filing—Tucson Electric Power Co. to be effective 1/1/2026.

Filed Date: 12/23/25.

Accession Number: 20251223-5123.

Comment Date: 5 p.m. ET 1/5/26.

Docket Numbers: RP26-316-000.

Applicants: Trunkline Gas Company, LLC.

Description: § 4(d) Rate Filing: Amended Neg Rate Agreement—DCP South_2 to be effective 1/1/2026.

Filed Date: 12/23/25.

Accession Number: 20251223-5131.

Comment Date: 5 p.m. ET 1/5/26.

Docket Numbers: RP26-317-000.

Applicants: Midwestern Gas Transmission Company.

Description: § 4(d) Rate Filing: Revisions to Part 8, Section 16 and Section 17 to be effective 1/22/2026.

Filed Date: 12/23/25.

Accession Number: 20251223-5139.

Comment Date: 5 p.m. ET 1/5/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: PR26-9-001.

Applicants: Hope Gas, Inc.

Description: Amendment Filing: HGI—November 1 2025 Rate Change and SOC Revision—Amendment to be effective 11/1/2025.

Filed Date: 12/19/25.

Accession Number: 20251219-5477.

Comment Date: 5 p.m. ET 1/5/26.

§ 284.123(g) Protest: 5 p.m. ET 2/23/26, 5 p.m. ET 1/5/26.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: December 23, 2025.
Carlos D. Clay,
Deputy Secretary.

[FR Doc. 2025-24095 Filed 12-30-25; 8:45 am]

BILLING CODE 6717-01-P